Title 3—

The President

Proclamation 8600 of November 15, 2010

National Entrepreneurship Week, 2010

By the President of the United States of America

A Proclamation

Entrepreneurs embody the promise that lies at the heart of America—that if you have a good idea and work hard enough, the American dream is within your reach. During National Entrepreneurship Week, we renew our commitment to supporting the entrepreneurs who power the engine of our Nation’s economy. These intrepid individuals translate their vision into products and services that keep America strong and competitive on a global scale, and build opportunity and prosperity across our country.

As we emerge from a historic economic recession, my Administration has taken decisive action to accelerate growth and remove barriers for entrepreneurs and small business owners to grow, hire, and prosper. At a time when small business lending standards had tightened considerably, the American Recovery and Reinvestment Act helped the Small Business Administration (SBA) work with lenders to provide critical SBA loans. These loans assisted thousands of entrepreneurs in starting new businesses, employing workers, and jumpstarting our economy. I was also proud to sign the Small Business Jobs Act of 2010, the most important investment in small businesses in more than a decade. This legislation will make it easier for them to expand and hire, creating tax breaks and accelerating more than $55 billion in tax relief for entrepreneurs and small business owners by the end of 2011.

To harness the ingenuity of the American people, my Administration has developed a national innovation strategy, which emphasizes entrepreneurship as a catalyst for new industries, new businesses, and new jobs. This strategy focuses on key investments to foster American innovation, improving education, building a 21st-century infrastructure, and bolstering our ability to conduct cutting-edge research. It also seeks to promote and facilitate competitive markets for entrepreneurs, and to support breakthroughs in areas of national priority—including alternative energy, health care technology, and advanced vehicle technologies. In addition, the new National Advisory Council on Innovation and Entrepreneurship is collecting input from across the United States to recommend policies that will bolster our economic growth and lead to sustainable, well-paying American jobs. I encourage aspiring entrepreneurs and other Americans interested in promoting innovation to visit www.SBA.gov for resources and information.

All Americans can play a role in increasing the prevalence and success of new start-ups. Business leaders can mentor a budding entrepreneur who has an original idea and the will to execute, but could benefit from the guidance of an experienced owner or operator. Philanthropists can expand entrepreneurship education for ambitious students at underserved schools and community colleges. Universities can accelerate the transition of scientific breakthroughs from the lab to the marketplace. Together, we can help millions of entrepreneurs create the industries and jobs of the 21st century and solve some of the toughest challenges we face as a Nation.

NOW, THEREFORE, I, BARACK OBAMA, President of the United States of America, by virtue of the authority vested in me by the Constitution and the laws of the United States, do hereby proclaim November 14 through November 20, 2010, as National Entrepreneurship Week. I call upon all Americans to commemorate this week with appropriate programs and activities, and to celebrate November 19, 2010, as National Entrepreneurs’ Day.

IN WITNESS WHEREOF, I have hereunto set my hand this fifteenth day of November, in the year of our Lord two thousand ten, and of the Independence of the United States of America the two hundred and thirty-fifth.

[FR Doc. 2010-29453

Filed 11-18-10; 11:15 am]

Billing code 3195-W1-P